DEPARTMENT OF COMMERCE

National Oceanic and Atmospheric Administration

[I.D. 011005G]

Proposed Information Collection; Comment Request; Southeast Region Gear Identification Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 15, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Sadler, NMFS, 9721 Executive Center Drive N., St. Petersburg, FL 33702 (phone 727-570-5760).

SUPPLEMENTARY INFORMATION:

I. Abstract

The regulations at 50 CFR 622.6(b) and 640.6 require that each fish or spiny lobster trap or pot be marked with a tag or the vessel permit number, depending on the fishery, and have a buoy attached that meets specified identification requirements. The marking of gear aids law enforcement, helps to ensure that vessels only harvest fish from their own gear, and makes it easier for fishermen to report the use of gear in unauthorized locations.

The regulations at 50 CFR 622.41 require that aquaculture site materials be distinguishable from the natural occurring substrate, depending on the area either through marking or other method. The marking of aquacultured site materials aids determination of the origin of those materials and, thereby, helps ensure compliance with the regulations.

II. Method of Collection

Public disclosure via marking the fishing gear. No information is collected.

III. Data

OMB Number: 0648-0359.

Form Number: None.

Type of Review: Regular submission.

Affected Public: Business or other for-profit organizations, and individuals or households.

Estimated Number of Respondents: 1,000.

Estimated Time Per Response: 20 minutes for marking of a Spanish mackerel gillnet float; 7 minutes to tag a trap; and 10 seconds to mark or tag an aquacultured live rock.

Estimated Total Annual Burden Hours: 2,192.

Estimated Total Annual Cost to Public: $15,200.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 7, 2005.
Gwellnar Banks,
Management Analyst, Office of the Chief Information Officer.

[FR Doc. 05-843 Filed 1-13-05; 8:45 am]

BILLING CODE 3510-22-S